DEPARTMENT OF ENERGY

Federal Energy Regulatory Commission

[Docket No. RP00-543-000]

Texas Eastern Transmission Corporation; Notice of Proposed Changes in FERC Gas Tariff

September 19, 2000.

Take notice that on September 15, 2000, Texas Eastern Transmission Corporation (Texas Eastern) tendered for filing as part of its FERC Gas Tariff, Sixth Revised Volume No. 1, the revised tariff sheets listed on Appendix A to the filing, to become effective on November 1, 2000.

Texas Eastern states that the purpose of this filing is to provide its customers firm hourly flexibility up to 110% of \1/24\th of their contract MDQ for 6 hours on any day under Rate Schedules CDS, FT-1, SCT, and SS-1. Texas Eastern states that the goal of the filing is that customers will receive commencing November 1, 2000, enhanced reliability and flexibility through the right to vary takes on an hourly basis during a day and that Texas Eastern would be able to mitigate, to the extent practicable, the issuance of OFOs in the winter of 2000-2001.

Texas Eastern requests expedited action on its filing and that it be accepted without modification or condition so that this enhanced service will be available to customers during the winter of 2000-2001.

Texas Eastern states that it will reserve 130,000 dekatherms per day of capacity on its main line from the Lebanon Lateral to the Zone M2/M3 boundary, which capacity will operate essentially as additional storage on the Texas Eastern system that is necessary to provide the firm up of additional hourly flexibility. Texas Eastern also states that it will fund the dedication of capacity to provide this additional hourly flexibility through the elimination of the storage cost credit contained in Rate Schedules SS-1, FSS-1, SS, and X-28.

Texas Eastern states that it is proposing that its revised tariff sheets be placed into effect on an experimental, interim basis. Texas Eastern would submit a study in May 2001 following the experimental effectiveness of the hourly firm up indicating the results to date on service and operations of the revised tariff sheets. Texas Eastern states that Customers would be free to comment on Texas Eastern's study and the desirability of extending the program beyond October 31, 2001.

Texas Eastern states that copies of the filing were mailed to all affected customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-24521 Filed 9-22-00; 8:45 am]

BILLING CODE 6717-01-M